AFRICAN DEVELOPMENT FOUNDATION

Board of Directors Executive Session Meeting

Meeting: African Development Foundation, Board of Directors Executive Session Meeting.

Time: Thursday, October 11, 2012, 5 p.m. to 6:30 p.m.

Place: Teleconference.

Date: Thursday, October 11, 2012.

Status:

1. Closed session, Thursday, October 11, 2012, 5 p.m. to 6:30 p.m.

Lloyd O. Pierson,
President & CEO, United States African Development Foundation.

[FR Doc. 2012-24335 Filed 10-2-12; 8:45 am]

BILLING CODE P